DEPARTMENT OF EDUCATION

National Mathematics Advisory Panel

AGENCY: National Mathematics Advisory Panel, Department of Education.

ACTION: Notice of open meeting & public hearing.

SUMMARY: This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend.

DATES: Thursday, January 11, 2007.

Time: 8:45 a.m.-12:45 p.m.

ADDRESSES: The meeting will be held at the InterContinental New Orleans, 444 St. Charles Avenue, New Orleans, Louisiana 70130.

FOR FURTHER INFORMATION CONTACT: Tyrrell Flawn, Executive Director, National Mathematics Advisory Panel, 400 Maryland Avenue, SW., Washington, DC 20202; telephone: (202) 260-8354.

SUPPLEMENTARY INFORMATION: The Panel was established by Executive Order 13398. The purpose of this Panel is to foster greater knowledge of an improved performance in mathematics among American students, in order to keep America competitive, support American talent and creativity, encourage innovation throughout the American economy, and help State, local, territorial, and tribal governments give the nation's children and youth the education they need to succeed.

The meeting will be hosted by Xavier University, a historically black university. It will begin with an Open Public Session from 9 a.m. to 10 a.m. At that time, the public is invited to comment on elements of the Executive Order and the Panel's work. Following the public comment session, from 10:15 a.m. to 12:45 p.m., the four task groups—Conceptual Knowledge and Skills, Learning Processes, Instructional Practices, and Teachers—will present their draft contributions to the preliminary report. Individuals interested in attending the meeting are advised to register in advance to ensure space availability. Please contact Jennifer Graban at (202) 260-1491 or by e-mail at Jennifer.Graban@ed.gov by Thursday, January 4, 2007.

If you are interested in giving testimony during the public session on January 11, please contact Jennifer Graban at (202) 260-1491 or Jennifer.Graban@ed.gov by Thursday, January 4, 2007, to reserve time on the agenda. Presenters are encouraged to address one or more of the Panel's present four focus areas: Conceptual knowledge and skills; learning processes; instructional practices; and teachers. (Please refer to the Web site at http://www.ed.gov/about/bdscomm/list/mathpanel/index.html for more information on the elements of the Executive Order.) Please include your name, the organization you represent, and a brief description of the issue you would like to present and the focus area(s) to which it correlates. Presenters will be allowed three to five minutes to make their comments. Presenters are requested to submit three written copies and an electronic file (CD or diskette) of their comments at the meeting, which should be labeled with their name and contact information.

Given the expected number of individuals interested in providing comments at the meeting, reservations for presenting comments should be made as soon as possible. Reservations will be processed on a first-come, first-served basis. Persons who are unable to obtain reservations to speak during the meeting are encouraged to submit written comments. Written comments will be accepted at the meeting site or via e-mail to Jennifer.Graban@ed.gov. If you will be e-mailing written comments, please do so by Friday, December 29, 2006.

The Panel will submit to the President, through the Secretary, a preliminary report not later than January 31, 2007, and a final report no later than February 28, 2008. Both reports shall, at a minimum, contain recommendations, based on the best available scientific evidence.

The meeting site is accessible to individuals with disabilities. Individuals who will need accommodations in order to attend the meeting, such as interpreting services, assistive listening devices, or materials in alternative format, should notify Jennifer Graban at (202) 260-1491 or Jennifier.Graban@ed.gov no later than Thursday, January 4, 2007. We will attempt to meet requests for accommodations after this date, but cannot guarantee their availability.

Records are kept of all Panel proceedings and are available for public inspection at the staff office for the Panel, from the hours of 9 a.m. to 5 p.m.

Dated: December 18, 2006.
Margaret Spellings,
Secretary, U.S. Department of Education.

[FR Doc. 06-9818 Filed 12-21-06; 8:45 am]

BILLING CODE 4000-01-M